FEDERAL RETIREMENT THRIFT INVESTMENT BOARD

Sunshine Act Meeting Notice

Time and Date: 9 a.m. (Eastern Time), April 19, 2010.

Place: 4th Floor Conference Room, 1250 H Street, NW., Washington, DC 20005.

Status: Parts will be open to the public and parts closed to the public.

Matters To Be Considered

Parts Open to the Public

1. Approval of the minutes of the March 15, 2010 Board member meeting.

2. Thrift Savings Plan activity report by the Executive Director.

a. Monthly Participant Activity Report.

b. Legislative Report.

3. Quarterly Reports.

a. Investment Policy Review.

b. Vendor Financial Review.

4. Financial Audit Report.

Parts Closed to the Public

5. Proprietary Data

Contact Person for More Information: Thomas J. Trabucco, Director, Office of External Affairs. (202) 942-1640.

Dated: April 9, 2010.
Thomas K. Emswiler,
Secretary, Federal Retirement Thrift Investment Board.

[FR Doc. 2010-8571 Filed 4-9-10; 4:15 pm]

BILLING CODE 6760-01-P